DEPARTMENT OF LABOR

Employment Standards Administration

Proposed Extension of the Approval of Information collection Requirements

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposal to extend OMB approval of the information collection: Application for Federal Certificate of Age Regulations 29 CFR Part 570, Subpart B (WH-14). A copy of the proposed information collection request can be obtained by contacting the office listed below in the ADDRESSES section of this Notice.

DATES: Written comments must be submitted to the office listed in the addresses section below on or before September 2, 2008.

ADDRESSES: Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION: I. Background: Fair Labor Standards Act (FLSA) section 3(l), 29 U.S.C. 203(l), provides, in part, that an employer may protect against unwitting employment of “oppressive child labor,” as defined in section 3(l), by having on file an unexpired certificate issued pursuant to Department of Labor regulations certifying that the named person meets the FLSA minimum age requirements for employment. FLSA section 11(c) requires all employers covered by the FLSA to make, keep, and preserve records of employees and of wages, hours, and other conditions and practices of employment. A FLSA covered employer must maintain the records for such period of time and make such reports as prescribed by regulations issued by the Secretary of Labor. Form WH-14 is the application employers submit to obtain Federal Certificates of Age to protect themselves against unwitting child labor violations of the Fair Labor Standards Act. This information collection is currently approved for use through December 31, 2008.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks approval for the extension of this currently approved information collection in order to protect employers form unwitting violation of the minimum age standards of the Fair Labor Standards Act.

Type of Review: Extension.

Agency: Employment Standards Administration.

Title: Application for Federal Certificate of Age.

OMB Number: 1215-0083.

Agency Number: WH-14, Affected Public: Business or not for-profit, Not-for-profit institution, Farms, and State, Local or Tribal Government.

Total Respondents: 10.

Total Annual Responses: 10.

Estimated Time per Response: 10 minutes.

Reporting: 1.67

Recordkeeping: .083

Estimated Total Burden Hours: 1.75.

Frequency: On occasion.

Total Burden Cost (capital/startup): $0.

Total Burden Cost (operating/maintenance): $0.

Comments submitted in response to this notice will be summarized and/or included in the request for Office of Management and Budget approval of the information collection request; they will also become a matter of public record.

Dated: June 26, 2008.
Hazel M. Bell,
Acting Chief, Branch of Management Review and Internal Control, Division of Financial Management, Office of Management, Administration and Planning, Employment Standards Administration.

[FR Doc. E8-14978 Filed 7-1-08; 8:45 am]

BILLING CODE 4510-27-P